DEPARTMENT OF COMMERCE

National Oceanic and Atmospheric Administration

Gulf of the Farallones National Marine Sanctuary Permit Application Project Titled: Fine Scale, Long-Term Tracking of Adult White Sharks

AGENCY: Office of National Marine Sanctuaries (ONMS), National Ocean Service (NOS), National Oceanic and Atmospheric Administration (NOAA), Department of Commerce (DOC).

ACTION: Draft environmental assessment; notice of availability; request for public comment.

SUMMARY: The Gulf of the Farallones National Marine Sanctuary (GFNMS) has developed a draft environmental assessment (EA) pursuant to the National Environmental Policy Act (42 U.S.C. 4321, et seq.) to analyze the potential impacts of issuing a research permit that would allow the attraction and approach of white sharks in the sanctuary. The purpose of the proposed study is to improve our knowledge of the full migratory cycle of white sharks by attaching location transmitters to up to eleven (11) white sharks that seasonally visit the sanctuary. The EA is available for download on the web site: http://farallones.noaa.gov/eco/sharks/pdf/ea_mcsi_permit2009.pdf.

DATES: Comments on this draft environmental assessment may be made on or before October 15, 2010.

ADDRESSES: Comments may be submitted by any of the following methods:

• Mail: Carliane Johnson, Acting Permit Coordinator, Gulf of the Farallones National Marine Sanctuary, The Presidio, 991 Marine Drive, San Francisco, CA 94129.

• E-mail: carliane.johnson@noaa.gov.

FOR FURTHER INFORMATION CONTACT: Carliane Johnson, Acting Permit Coordinator, Gulf of the Farallones National Marine Sanctuary, The Presidio, 991 Marine Drive, San Francisco, CA 94129. Phone: (703) 969-5544.

Dated: September 24, 2010.
Daniel J. Basta,
Director for the Office of National Marine Sanctuaries.

[FR Doc. 2010-24584 Filed 9-29-10; 8:45 am]

BILLING CODE 3510-NK-P